DEPARTMENT OF TRANSPORTATION

National Highway Traffic Safety Administration

[Docket No. NHTSA-2004-18451; Notice 2]

Michelin North America, Inc., Grant of Petition for Decision of Inconsequential Noncompliance

Michelin North America, Inc. (Michelin) has determined that certain tires it manufactured in 2004 do not comply with S6.5(f) of Federal Motor Vehicle Safety Standard (FMVSS) No. 119, “New pneumatic tires for vehicles other than passenger cars.” Pursuant to 49 U.S.C. 30118(d) and 30120(h), Michelin has petitioned for a determination that this noncompliance is inconsequential to motor vehicle safety and has filed an appropriate report pursuant to 49 CFR Part 573, “Defect and Noncompliance Reports.” Notice of receipt of the petition was published, with a 30-day comment period, on July 6, 2004, in the Federal Register (69 FR 40716). NHTSA received no comments.

Michelin produced approximately 278 Uniroyal Laredo HD/H Load Range D size LT215/85R16 tires during the period from March 30, 2004 to April 30, 2004 that do not comply with FMVSS No. 119, S6.5(f). These tires were marked “tread plies: 2 polyester + 2 steel + 1 nylon; sidewall plies: 2 polyester.” They should have been marked “tread plies: 2 polyester + 2 steel; sidewall plies: 2 polyester.”

S6.5(f) of FMVSS No. 119 requires that each tire shall be marked on each sidewall with “the actual number of plies and the composition of the ply cord material in the sidewall and, if different, in the tread area.”

Michelin believes that the noncompliance is inconsequential to motor vehicle safety and that no corrective action is warranted. Michelin asserts that the tires meet or exceed all performance requirements of FMVSS No. 119, and that the noncompliance has no effect on the performance of the tires or motor vehicle safety. Michelin also states that, because the tire sidewalls are not of steel cord construction, but are actually polyester, there is no potential safety concern for people working in the tire retread, repair, and recycling industries.

The Transportation Recall, Enhancement, Accountability, and Documentation (TREAD) Act (Pub. L. 106-414) required, among other things, that the agency initiate rulemaking to improve tire label information. In response, the agency published an Advance Notice of Proposed Rulemaking (ANPRM) in the Federal Register on December 1, 2000 (65 FR 75222).

The agency received more than 20 comments on the tire labeling information required by 49 CFR 571.109 and 119, Part 567, Part 574, and Part 575. In addition, the agency conducted a series of focus groups, as required by the TREAD Act, to examine consumer perceptions and understanding of tire labeling. Few of the focus group participants had knowledge of tire labeling beyond the tire brand name, tire size, and tire pressure.

Based on the information obtained from comments to the ANPRM and the consumer focus groups, we have concluded that it is likely that few consumers have been influenced by the tire construction information (number of plies and cord material in the sidewall and tread plies) provided on the tire label when deciding to buy a motor vehicle or tire.

Therefore, the agency agrees with Michelin's statement that the incorrect markings in this case do not present a serious safety concern.¹ There is no effect of the noncompliance on the operational safety of vehicles on which these tires are mounted. In the agency's judgment, the incorrect labeling of the tire construction information will have an inconsequential effect on motor vehicle safety because most consumers do not base tire purchases or vehicle operation parameters on the number of plies in the tire. In addition, the tires are certified to meet all the performance requirements of FMVSS No. 119 and all other informational markings as required by FMVSS No. 119 are present. Michelin has corrected the problem.

¹ This decision is limited to its specific facts. As some commenters on the ANPRM noted, the existence of steel in a tire's sidewall can be relevant to the manner in which it should be repaired or retreaded.

In consideration of the foregoing, NHTSA has decided that the petitioner has met its burden of persuasion that the noncompliance described is inconsequential to motor vehicle safety. Accordingly, Michelin's petition is granted and the petitioner is exempted from the obligation of providing notification of, and a remedy for, the noncompliance.

Authority: (49 U.S.C. 30118, 30120; delegations of authority at CFR 1.50 and 501.8)

Issued on: August 19, 2004.
Kenneth N. Weinstein,
Associate Administrator for Enforcement.

[FR Doc. 04-19379 Filed 8-23-04; 8:45 am]

BILLING CODE 4910-59-P